DEPARTMENT OF STATE

[Public Notice: 12922]

Proposal To Extend the Cultural Property Agreement Between the United States and Egypt

SUMMARY: Proposal to extend the Memorandum of Understanding Between the Government of the United States of America and the Government of the Arab Republic of Egypt Concerning the Imposition of Import Restrictions on Categories of Cultural Property of Egypt (“the Egypt Agreement”).

FOR FURTHER INFORMATION CONTACT: Virginia Herrmann, Cultural Heritage Center, Bureau of Educational and Cultural Affairs: (771) 204-6071; culprop@state.gov; include “Egypt” in the subject.

SUPPLEMENTARY INFORMATION: Pursuant to the authority vested in the Under Secretary of State for Public Diplomacy, and pursuant to 19 U.S.C. 2602(f)(1), an extension of the Egypt Agreement is hereby proposed. The Cultural Heritage Center website will provide instructions for public comment: https://www.state.gov/cultural-property-advisory-committee-meeting-march-3-5-2026/.

A copy of the Egypt Agreement, the Designated List of categories of material currently restricted from import into the United States, and related information can be found at the Cultural Heritage Center website: https://www.state.gov/current-agreements-and-import-restrictions/.

Andrew L. Zonderman,
Designated Federal Officer, Cultural Property Advisory Committee, Bureau of Educational and Cultural Affairs, U.S. Department of State.

[FR Doc. 2026-01397 Filed 1-23-26; 8:45 am]

BILLING CODE 4710-05-P